DEPARTMENT OF TRANSPORTATION

National Highway Traffic Safety Administration

49 CFR Part 578

[Docket No. NHTSA-2016-0136]

RIN 2127-AL82

Civil Penalties

AGENCY: National Highway Traffic Safety Administration (NHTSA), Department of Transportation (DOT).

ACTION: Final rule; delay of effective date.

SUMMARY: This action temporarily delays for 60 days the effective date of the rule entitled “Civil Penalties,” published in the Federal Register on December 28, 2016.

DATES: Effective January 25, 2017. The effective date of the rule amending 49 CFR part 578 published at 81 FR 95489, December 28, 2016 is delayed until March 28, 2017.

FOR FURTHER INFORMATION CONTACT: For legal issues, contact Rebecca Schade, Office of Chief Counsel, at (202) 366-2992. For non-legal issues, contact John Finneran, Office of Vehicle Safety Compliance, at (202) 366-5289.

SUPPLEMENTARY INFORMATION: In accordance with the memorandum of January 20, 2017, from the Assistant to the President and Chief of Staff, entitled “Regulatory Freeze Pending Review,” ¹ this action temporarily delays for 60 days the effective date of the rule entitled “Civil Penalties,” published in the Federal Register on December 28, 2016, at 81 FR 95489. That rule responded to a petition for reconsideration from the Alliance of Automobile Manufacturers and the Association of Global Automakers by delaying, until model year 2019, the implementation of inflationary adjustments to the Corporate Average Fuel Economy (CAFE) civil penalty rate. These inflationary adjustments are required by Congress as part of the Federal Civil Penalties Inflation Adjustment Improvements Act of 2015.

¹ Available at https://www.whitehouse.gov/the-press-office/2017/01/20/memorandum-heads-executive-departments-and-agencies (last accessed Jan. 24, 2017).

To the extent that 5 U.S.C. 553 is applicable, this action is exempt from notice and comment because it constitutes a rule of procedure under 5 U.S.C. 553(b)(3)(A). Alternatively, NHTSA's implementation of this action without opportunity for public comment, effective immediately upon publication today in the Federal Register, is justified based on the good cause exceptions in 5 U.S.C. 553(b)(3)(B) and 553(d)(3). Seeking public comment is impracticable, unnecessary, and contrary to the public interest. The temporary 60-day delay in effective date is necessary to give Department officials the opportunity for further review and consideration of new regulations, consistent with the Assistant to the President's memorandum of January 20, 2017. Given the imminence of the effective date, seeking prior public comment on this temporary delay would have been impractical, as well as contrary to the public interest in the orderly promulgation and implementation of regulations. The imminence of effective date is also good cause for making this action effective immediately upon publication.

Authority: Pub. L. 101-410, Pub. L. 104-134, Pub. L. 109-59, Pub. L. 114-74, Pub L. 114-94, 49 U.S.C. 32902 and 32912; delegation of authority at 49 CFR 1.81, 1.95.

Issued on: January 25, 2017.
Jack Danielson,
Acting Deputy Administrator.

[FR Doc. 2017-01957 Filed 1-25-17; 4:15 pm]

BILLING CODE 4910-59-P